DEPARTMENT OF ENERGY

Federal Energy Regulatory Commission

Notice of Commission Staff Attendance

The Federal Energy Regulatory Commission (Commission) hereby gives notice that members of the Commission's staff may attend the following meeting related to the transmission planning activities of the Southern Company Services, Inc.:

2012 Southeastern Regional Transmission Planning Process (SERTP) 3rd Quarter Meeting—Second Regional Planning Stakeholders' Group Meeting

September 26, 2012, 9:00 a.m.-2:00 p.m., Local Time.

The above-referenced meeting will be held at: Alabama Power Company Corporate Headquarters, Room 4G, Birmingham, Alabama.

The above-referenced meeting is open to stakeholders.

Further information may be found at: www.southeasternrtp.com.

The discussions at the meeting described above may address matters at issue in the following proceedings:

Docket No. ER12-337, Mississippi Power Company

Docket No. ER12-2521, Louisville Gas and Electric Company and Kentucky Utilities Company

For more information, contact Valerie Martin, Office of Energy Market Regulation, Federal Energy Regulatory Commission at (202) 502-6139 or Valerie.Martin@ferc.gov.

Dated: September 19, 2012.
Kimberly D. Bose,
Secretary.

[FR Doc. 2012-23619 Filed 9-25-12; 8:45 am]

BILLING CODE 6717-01-P